DEPARTMENT OF THE INTERIOR

Fish and Wildlife Service

[FWS-HQ-IRTM-2022-N006; FF10T90000 212 FXGO1664101EST0; OMB Control Number 1018-New]

Agency Information Collection Activities; Submission to the Office of Management and Budget for Review and Approval; U.S. Fish and Wildlife Service ArcGIS Online (AGOL) Platform

AGENCY: Fish and Wildlife Service, Interior.

ACTION: Notice of information collection; request for comment.

SUMMARY: In accordance with the Paperwork Reduction Act of 1995, we, the U.S. Fish and Wildlife Service (Service), are proposing a new information collection in use without an Office of Management and Budget (OMB) control number.

DATES: Interested persons are invited to submit comments on or before April 28, 2022.

ADDRESSES: Written comments and recommendations for the proposed information collection should be sent within 30 days of publication of this notice to www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-AGOL” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320, all information collections require approval under the PRA. We may not conduct or sponsor and you are not required to respond to a collection of information unless it displays a currently valid OMB control number.

On September 30, 2021, we published in the Federal Register (86 FR 54230) a notice of our intent to request that OMB approve this information collection. In that notice, we solicited comments for 60 days, ending on November 29, 2021. In an effort to increase public awareness of, and participation in, our public commenting processes associated with information collection requests, the Service also published the Federal Register notice on https://www.regulations.gov (Docket FWS-HQ-IRTM-2021-0110) to provide the public with an additional method to submit comments (in addition to the typical Info_Coll@fws.gov email and U.S. mail submission methods). We did not receive any comments in response to that notice.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Service collects and maintains necessary geospatial data to meet our mission in accordance with the following authorities:

• Federal Funding Accountability and Transparency Act of 2006, as amended (31 U.S.C. 6101);

• Geospatial Data Act of 2018 (43 U.S.C. chapter 46, 2801-2811);

• National Technology Transfer and Advancement Act of 1995 (Pub. L. 104-113);

• Open, Public, Electronic, and Necessary (OPEN) Government Data Act (44 U.S.C. 3506(b)(6));

• Title II of the Foundations for Evidence-Based Policymaking Act of 2018 (Pub. L. 115-435);

• OMB Circular A-16, “Coordination of Geographic Information and Related Spatial Data Activities”;

• OMB Circular A-119, “Federal Participation in the Development and Use of Voluntary Consensus Standards and in Conformity Assessment Activities”; and

• OMB Circular A-130, “Managing Information as a Strategic Resource.”

Geospatial data identify and depict geographic locations, boundaries, and characteristics of features on the surface of the earth. Geospatial data includes geographic coordinates (e.g., latitude and longitude) to identify the location of earth's features, and data associated to geographic locations (e.g., land survey data and land cover type data). The Service's organizational ArcGIS online program (AGOL), accessed at https://fws.maps.arcgis.com, is an easy place to share data with the public and partners, as well as internally among Service staff. It can also be used to build and deploy mobile-enabled online maps, applications, and services for geographic information systems (GIS) users and non-GIS users alike. Sensitive data is restricted from public access via an internal-facing intranet version of AGOL. Moreover, because the system contains only controlled unclassified information (CUI) that would be designated as low impact under the Federal Information Security Act (FISMA; 2002), no personally identifiable information (PII) is allowed within the system.

The AGOL platform enables the Service to effectively manage geospatial data resources and technology to successfully deliver geospatial services in support of the Service's mission. Data collected through AGOL enables improved visualization, analysis, interoperability, modeling, sharing, and decision support. The benefits include increased accuracy, increased productivity, and more efficient information management and application support.

In addition to collecting name and contact information, additional comments about the submission, and photographs (optional), we collect the following types of data from our partners through AGOL to improve our online maps, web-mapping applications, and story maps (data collected is specific to a particular project; we will not collect all data types below with each submission):

• Road crossing data, to include data such as location data, global positioning system (GPS) coordinates, stream name and stream flow, road name, structure type and quantity, road surface type and condition, issues present at crossing, and name and contact.

• Stream crossing data, to include data such as location/description, GPS coordinates, crossing type, structures/barriers, inlet/outlet information, and stream flow type and condition.

• Conservation project data, to include data such as project title and description, partner names and contact information, start and end dates for project, whether project is new or updated, cost of project, relevant website information, geographical location of project, project species data, project strategy (e.g., protect habitat, reduce human conflicts, climate change, etc.), and links to project reports.

• Reporting locations and/or status of Service assets (such as trails, roads, gates, etc.), invasive species, dead animals, trash on public lands, and possible hazards.

• Observations of wildlife occurrences, including location, species, observer, counts, and other physical characteristics of interest.

• Vegetation monitoring data, which would include the condition of the resource, abundance, lifeform, and more.

We use the information collected from our partners to support critical geospatial services for Service programs/functions, such as:

Endangered Species and Fisheries & Habitat Conservation

• Monitoring the extent and status of wetlands for management, research, policy development, education, and planning through the National Wetlands Inventory (https://www.fws.gov/wetlands/).

• Performing natural resources damage assessments (NRDAs), including evaluating exposure of trust species to toxic spills.

• Proposing, designating, and informing the public about critical habitat for threatened and endangered (T&E) species, delivering official species lists, and undertaking consultations under section 7 of the Endangered Species Act.

• Providing information about sensitive resources (T&E species, Refuges, critical habitat) within the vicinity of a proposed project.

• Conducting large-scale, multidisciplinary, multi-species analysis for habitat conservation and landscape conservation planning and restoration.

• Improving fish passage and modeling the effects of barrier removal.

Migratory Bird Conservation

• Conducting bird surveys: Survey design, navigation GPS files for airplane pilots, and spatially referenced survey data.

• Assessing habitat conditions and monitoring habitat improvement projects in joint ventures.

• Conducting research on relationships between bird abundance/productivity and habitat quantity and quality, and migration movement patterns.

National Wildlife Refuge System

• Developing alternatives for comprehensive conservation plans and supporting National Wildlife Refuge System (System) operational activities, including asset management, law enforcement, water resources, and fire management.

• Mapping realty transactions and land status of Service properties and proposed expansions.

• Analyzing strategic growth and land acquisition planning opportunities for the System.

• Conducting biological surveys and managing data, including inventory and monitoring, invasive species control, and habitat management plans.

• Managing Service infrastructure and assets.

• Planning, responding, and mitigating impacts from natural disasters such as wildfire, hurricanes, disease outbreaks, and more.

• Producing visitor service materials (maps, brochures) for public use and engagement of System lands.

Landscape Conservation Cooperatives

• Evaluating, planning, and implementing strategic habitat conservation and adaptive management at the landscape level.

• Performing biological planning, conservation design and delivery, monitoring, and research for climate change and other stressors at the landscape level.

Title of Collection: U.S. Fish and Wildlife Service ArcGIS Online (AGOL) Platform.

OMB Control Number: 1018-New.

Form Number: None.

Type of Review: Existing collection in use without an OMB control number.

Respondents/Affected Public: Private sector; State, local, and Tribal governments; and/or foreign governments.

Respondent's Obligation: Voluntary.

Frequency of Collection: On occasion.

Total Estimated Annual Nonhour Burden Cost: None.

Requirement | Average number of annual respondents | Average number of responses each | Average number of annual responses | Average completion time per response (hours) | Estimated annual burden hours *
AGOL Online Submissions:
Private Sector | 150 | 5 | 750 | 5 min | 63
Government | 150 | 5 | 750 | 5 min | 63
Totals | 300 |  | 1,500 |  | 126
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2022-06571 Filed 3-28-22; 8:45 am]

BILLING CODE 4333-15-P